NATIONAL SCIENCE FOUNDATION

Request for Information—Environmental Research and Education, National Security, and Economic Competitiveness

AGENCY: National Science Foundation.

ACTION: Notice of Request for Information.

SUMMARY: The purpose of this Request for Information (RFI) is to seek input from the public on possible future directions for fundamental environmental science and education. The RFI intends to gather views from external stakeholders on what environmental research and education is needed to further advance national security and economic competitiveness. NSF's Advisory Committee for Environmental Research and Education (AC ERE) will use the input to develop a report on these topics to inform NSF and the community.

DATES: Written comments must be submitted by August 20, 2018.

ADDRESSES: Responses will be submitted via online survey (https://www.surveymonkey.com/r/ACERE-RFI-2018). See the instructions in the SUPPLEMENTARY INFORMATION for guidelines.

FOR FURTHER INFORMATION CONTACT: Contact Leah Nichols, Executive Secretary for the AC ERE, at lenichol@nsf.gov for further information.

SUPPLEMENTARY INFORMATION: The National Science Foundation's Advisory Committee for Environmental Research and Education (AC ERE) invites your input on possible environmental research and education directions to further advance national security and economic competitiveness. The purpose of the AC ERE is to:

• Provide advice, recommendations and oversight concerning support for the NSF's environmental research and education portfolio;

• Be a base of contact with the scientific community to inform NSF of the impact of its research support and NSF-wide policies on the scientific community;

• Serve as a forum for consideration of interdisciplinary environmental topics as well as environmental activities in a wide range of disciplines;

• Provide broad input into long-range plans and partnership opportunities; and

• Provide advice about program management, overall program balance, and other aspects of program performance for environmental research and education activities.

The Committee has been interested broadly in fundamental environmental research and education that also has societal utility. It has recently focused its attention on two major topics where there is broad consensus on the importance of the research to date, but where significant research questions remain. These topics are at the nexus of environmental science and engineering with economic growth and competitiveness, and the relationship of environmental factors to national and human security. The Committee is particularly interested in approaches that promote convergent research across disciplines and sectors to address economic competitiveness and economic security.

To identify emerging research questions in these areas, the committee is reaching out to interested and knowledgeable members of the scientific community in all disciplines and interdisciplinary areas for their views. The AC ERE is also interested in the views of professionals who are directly involved in decision-making or operational activities in these areas, and who therefore can provide a very practical perspective on high-priority research and education topics.

The AC ERE invites individuals and groups of individuals to provide input on one or both of the topics described above via this link: https://www.surveymonkey.com/r/ACERE-RFI-2018.

The online submission form requires the following information:

1. Author name(s) and affiliation(s);

2. Valid contact email address;

3. Title of the response;

4. An abstract (200 words or less) summarizing the response; and

5. Checkbox to consent to allow the AC ERE to display the submitted information, consistent with the Creative Commons Attribution-NonCommercial-NoDerivatives 4.0 International License (https://creativecommons.org/licenses/by-nc-nd/4.0/legalcode).

You will also be asked to identify whether your response focuses on questions in environmental research and education that are pertinent to (a) economic growth and competitiveness, (b) national and human security, or (c) both topics. The submission form includes the following question prompts. Respondents may respond to all or any subset of these questions.

• What are the major environmental research priorities with the greatest potential to contribute to economic growth and competitiveness and/or national or human security/wellbeing? Priorities could, for example, include empirical, theoretical, or qualitative analyses, establishing baselines, and/or experimental studies. (500 words or less)

• What methodologies should be used for conducting such studies? Methodological recommendations could include the prospects for interdisciplinary and/or convergent research approaches, including modeling, theory, empirical, qualitative, and/or experimental studies. Methodological recommendations could also discuss the scope of studies, e.g. the balance between single-investigator studies and large teams. (500 words or less)

• What education (including formal and informal), research, and training opportunities—for students, postdoctoral researchers, and mid-career scientists—are needed? Opportunities might include interdisciplinary, team-based, or other innovative, value-added strategies for realizing higher levels of depth and breadth at the individual level, and/or expansion of the current environmental research community through inclusion of currently under-represented groups. (500 words or less)

• Beyond economic competitiveness and national security, what other high priority drivers of environmental science and education need attention? (200 words or less)

Submissions must be received by 5:00 p.m. Eastern Time on August 20, 2018. Respondents may edit their responses while completing the survey, but will not be able to save work in progress to complete later. Respondents will see a confirmation screen upon successful submission responses.

The committee and associated staff will read and analyze all responses received, and use them, in addition to its own background work, to develop a report on these topics to inform NSF and the community. It intends to publish this report by the end of 2018.

The AC ERE also anticipates making submissions publicly accessible through its website (https://www.nsf.gov/ere/ereweb/advisory.jsp). Authors who do not wish to have their full responses posted online may restrict access to the AC ERE and associated staff. However, the author(s) name and affiliation, submission title, and abstract will be included in the publicly accessible list of responses regardless.

The AC ERE invites you to step outside of the immediate demands of your current research and to think boldly about the opportunities for advancing environmental research and education into its next stage through a lens focused on economic competitiveness and/or national security. The Committee looks forward to your contributions.

For questions concerning this effort and submission of input, please contact Leah Nichols, Executive Secretary for the AC ERE, at lenichol@nsf.gov.

Dated: June 15, 2018.
Suzanne H. Plimpton,
Reports Clearance Officer, National Science Foundation.

[FR Doc. 2018-13213 Filed 6-19-18; 8:45 am]

BILLING CODE 7555-01-P